DEPARTMENT OF THE INTERIOR

Fish and Wildlife Service

[FWS-R4-ES-2008-N0183; 40120-1113-0000-C4]

Endangered and Threatened Wildlife and Plants; 5-Year Status Review of 20 Southeastern Species

AGENCY: Fish and Wildlife Service, Interior.

ACTION: Notice.

SUMMARY: The U.S. Fish and Wildlife Service (Service) is initiating 5-year status reviews of the slender chub (Erimystax cahni), blackside dace (Phoxinus cumberlandensis), vermillion darter (Etheostoma chermocki), pygmy madtom (Noturus stanauli), palezone shiner (Notropis albizonatus), fanshell (Cyprogenai stegaria), inflated heelsplitter (Potamilus inflatus), pink mucket (Lampsilis abrupta), spruce-fir moss spider (Microhexura montivaga), cave crayfish (Cambarus aculabrum), Pyne's ground plum (Astragalus bibulatus), small-anthered bittercress (Cardamine micranthera), leafy prairie clover (Dalea foliosa), smooth coneflower (Echinacea laevigata), spreading avens (Geum radiatum), Roan Mountain bluet (Hedyotis purpurea var. montana), rough-leaved loosestrife (Lysimachia asperulaefolia), Michaux's sumac (Rhus michauxii), Alabama canebrake pitcher plant (Sarracenia rubra ssp. alabamensis), and Blue Ridge goldenrod (Solidago spithamaea), under section 4(c)(2) of the Endangered Species Act of 1973, as amended (Act). The purpose of reviews conducted under this section of the Act is to ensure that the classification of species as threatened or endangered on the List of Endangered and Threatened Wildlife and Plants (50 CFR 17.11 and 17.12) is accurate. A 5-year review is an assessment of the best scientific and commercial data available at the time of the review.

DATES: To allow us adequate time to conduct this review, information submitted for our consideration must be received on or before September 29, 2008. However, we will continue to accept new information about any listed species at any time.

ADDRESSES: Information submitted on the slender chub, pygmy madtom, Pyne's groundplum, and leafy prairie clover should be sent to Geoff Call, Tennessee Field Office, U.S. Fish and Wildlife Service, 446 Neal Street, Cookeville, TN 38501, fax 931-528-7075. Information on the palezone shiner, blackside dace, and fanshell should be sent to Mike Floyd, Kentucky Field Office, U.S. Fish and Wildlife Service, 330 W. Broadway, Rm. 265, Frankfort, KY 40601, fax 502-695-1024. Information on the smooth coneflower, Michaux's sumac, and rough-leaved loosestrife should be sent to Dale Suiter, Raleigh Field Office, U.S. Fish and Wildlife Service, P.O. Box 33726, Raleigh, NC 27636, fax 919-856-4556. Information on the pink mucket, spruce fir moss spider, spreading avens, Blue Ridge goldenrod, Roan Mountain bluet, and small-anthered bittercress should be sent to Field Supervisor, Asheville Field Office, U.S. Fish and Wildlife Service, 160 Zillicoa St., Asheville, NC 28801, fax 828-258-5330. Information on the vermillion darter, inflated heelsplitter, and Alabama canebrake pitcher plant should be sent to Cary Norquist, Mississippi Field Office, U.S. Fish and Wildlife Service, 6578 Dogwood View Pkwy., Jackson, MS 39213, fax 601-965-4340. Information on the cave crayfish should be sent to David Kampwerth, Arkansas Field Office, 110 South Amity Road, Suite 300, Conway, AR 72032, fax 501-513-4480. Information received in response to this notice of review will be available for public inspection by appointment, during regular business hours, at the same addresses.

FOR FURTHER INFORMATION CONTACT: Geoff Call at Cookeville, Tennessee address above for the slender chub, pygmy madtom, Pyne's groundplum and leafy prairie clover (telephone, 931/528-6481 ext. 213, e-mail geoff_call@fws.gov); Mike Floyd at the Frankfort, Kentucky, address above for the palezone shiner, blackside dace, and fanshell (telephone, 502/695-0468 ext. 102, e-mail mike_floyd@fws.gov); Dale Suiter at the Raleigh, North Carolina address above for the smooth coneflower, Michaux's sumac, and rough-leaved loosestrife (telephone, 919/856-4520 ext. 18, e-mail dale_suiter@fws.gov); Bob Butler at Asheville, North Carolina address above for the pink mucket (telephone, 828/258-3939 ext. 235, e-mail robert_butler@fws.gov); John Fridell at the Asheville, North Carolina for the spruce fir moss spider (telephone, 828/258-3939 ext. 225, e-mail john_fridell@fws.gov); Carolyn Wells at Asheville, North Carolina for the spreading avens, Blue Ridge goldenrod, Roan Mountain bluet, and small-anthered bittercress (telephone, 828/258-3939 ext. 231, carolyn_wells@fws.gov); Cary Norquist at Jackson, Mississippi address above for the vermillion darter, inflated heelsplitter, and Alabama canebrake pitcher plant (telephone, 601/321-1128, e-mail cary_norquist@fws.gov); and David Kampwerth at Conway, Arkansas for the cave crayfish (telephone, 501-501-4477, e-mail david_kampwerth@fws.gov).

SUPPLEMENTARY INFORMATION: Under the Act (16 U.S.C. 1531 et seq.), the Service maintains a list of endangered and threatened wildlife and plant species at 50 CFR 17.11 (for wildlife) and 17.12 (for plants) (collectively referred to as the List). Section 4(c)(2)(A) of the Act requires that we conduct a review of listed species at least once every 5 years. Then, on the basis of such reviews, under section 4(c)(2)(B), we determine whether or not any species should be removed from the List (delisted), or reclassified from endangered to threatened or from threatened to endangered. Delisting a species must be supported by the best scientific and commercial data available and only considered if such data substantiate that the species is neither endangered nor threatened for one or more of the following reasons: (1) The species is considered extinct; (2) the species is considered to be recovered; and/or (3) the original data available when the species was listed, or the interpretation of such data, were in error. Any change in Federal classification would require a separate rulemaking process. Amendments to the List through final rules are published in the Federal Register .

The regulations at 50 CFR 424.21 require that we publish a notice in the Federal Register announcing those species currently under active review. This notice announces our active review of the following species that are currently listed as endangered: vermillion darter, pygmy madtom, palezone shiner, fanshell, pink mucket, spruce-fir moss spider, cave crayfish, Pyne's groundplum, small-anthered bittercress, leafy prairie clover, smooth coneflower, spreading avens, Roan Mountain bluet, rough-leaved loosestrife, Michaux's sumac, and Alabama canebrake pitcher plant. The other four species in this notice are currently listed as threatened. The List is also available on our Internet site at http://endangered.fws.gov/wildlife.html#Species.

What information is considered in the review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

Definitions Related to This Notice

We provide the following definitions to assist individuals submitting information regarding the species being reviewed:

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

What could happen as a result of this review?

If we find that there is new information concerning any of these 20 species indicating that a change in classification may be warranted, we may propose a new rule that could do one of the following: (a) Reclassify the species from endangered to threatened (downlist); (b) reclassify the species from threatened to endangered (uplist); or (c) delist the species. If we determine that a change in classification is not warranted, then the species will remain on the List under their current status.

Public Solicitation of New Information

We request any new information concerning the status of any of these 20 species. See “What information is considered in the review?” heading for specific criteria. Information submitted should be supported by documentation such as maps, bibliographic references, methods used to gather and analyze the data, and/or copies of any pertinent publications, reports, or letters by knowledgeable sources. Our practice is to make comments, including names and home addresses of respondents, available for public review during regular business hours. Individual respondents may request that we withhold their home addresses, etc., but if you wish us to withhold this information, you must state this prominently at the beginning of your comments. In addition, you must present a rationale for withholding this information. This rationale must demonstrate that disclosure would constitute a clearly unwarranted invasion of privacy. Unsupported assertions will not meet this burden. In the absence of exceptional, documental circumstances, this information will be released. We will always make submissions from organizations or businesses, and from individuals identifying themselves as representatives or officials of organizations or businesses, available for public inspection in their entirety.

Authority

This document is published under the authority of the Endangered Species Act (16 U.S.C. 1531 et seq.).

Dated: June 30, 2008.
Cynthia K. Dohner,
Acting Regional Director.

[FR Doc. E8-17368 Filed 7-28-08; 8:45 am]

BILLING CODE 4310-55-P